FEDERAL RESERVE SYSTEM

12 CFR Part 202

[Regulation B; Docket No. R-1420]

Equal Credit Opportunity

AGENCY: Board of Governors of the Federal Reserve System.

ACTION: Final rule; technical amendment.

SUMMARY: The Board is publishing amendments to Regulation B (Equal Credit Opportunity Act) to update the address where questions should be directed concerning creditors for which the Federal Deposit Insurance Corporation administers compliance with the regulation.

DATES: Effective Date: July 1, 2011. Compliance is optional until May 31, 2012.

FOR FURTHER INFORMATION CONTACT: Jamie Z. Goodson or Priscilla Walton-Fein, Attorneys, Division of Consumer and Community Affairs, Board of Governors of the Federal Reserve System, at (202) 452-3667. For the users of Telecommunications Device for the Deaf (“TDD”) only, contact (202) 263-4869.

SUPPLEMENTARY INFORMATION: The Equal Credit Opportunity Act (ECOA), 15 U.S.C. 1691-1691f, makes it unlawful for a creditor to discriminate against an applicant in any aspect of a credit transaction on the basis of the applicant's national origin, marital status, religion, sex, color, race, age (provided the applicant has the capacity to contract), receipt of public assistance benefits, or the good faith exercise of a right under the Consumer Credit Protection Act, 15 U.S.C. 1601 et seq. The ECOA is implemented by the Board's Regulation B.

In addition to the general prohibition against discrimination, Regulation B contains specific rules concerning the taking and evaluation of credit applications, including procedures and notices for credit denials and other adverse actions. Under section 202.9 of Regulation B, notification given to an applicant when adverse action is taken must contain the name and address of the federal agency that administers compliance with respect to the creditor. Appendix A of Regulation B contains the names and addresses of the enforcement agencies where questions concerning a particular creditor shall be directed. This amendment updates the address for the Federal Deposit Insurance Corporation. Creditors for which the Federal Deposit Insurance Corporation administers compliance with Regulation B must include this new address on their adverse action notices starting May 31, 2012.

12 CFR Chapter II

List of Subjects in 12 CFR Part 202

Aged, Banks, Banking, Civil rights, Consumer protections, Credit, Discrimination, Federal Reserve System, Marital status discrimination, Penalties, Religious discrimination, Sex discrimination.

Authority and Issuance

For the reasons set forth in the preamble, the Board amends 12 CFR part 202 to read as set forth below:

PART 202—EQUAL CREDIT OPPORTUNITY ACT (REGULATION B)

1. The authority citation for part 202 continues to read as follows:

Authority: Section 15 U.S.C. 1691-1691f.

2. Appendix A is amended by removing the fourth paragraph and adding a new paragraph in its place to read as follows:

Appendix A to Part 202—Federal Enforcement Agencies

* * * * *

Nonmember Insured Banks and Insured State Branches of Foreign Banks: FDIC Consumer Response Center, 1100 Walnut Street, Box #11, Kansas City, MO 64106.

* * * * *

By order of the Board of Governors of the Federal Reserve System, acting through the Secretary of the Board under delegated authority, May 25, 2011.
Jennifer J. Johnson,
Secretary of the Board.

[FR Doc. 2011-13430 Filed 5-31-11; 8:45 am]

BILLING CODE 6210-01-P